DEPARTMENT OF THE INTERIOR

National Park Service

[NPS-WASO-NAGPRA-17132; PPWOCRADN0-PCU00RP14.R50000]

Notice of Intent To Repatriate Cultural Item: U.S. Department of Agriculture, Forest Service, Cibola National Forest, Albuquerque, NM

AGENCY: National Park Service, Interior.

ACTION: Notice.

SUMMARY: The U.S. Department of Agriculture (USDA), Forest Service, Cibola National Forest, in consultation with the appropriate Indian tribes or Native Hawaiian organizations, has determined that the cultural item listed in this notice meets the definition of object of cultural patrimony. Lineal descendants or representatives of any Indian tribe or Native Hawaiian organization not identified in this notice that wish to claim this cultural item should submit a written request to the USDA Forest Service, Southwestern Region. If no additional claimants come forward, transfer of control of the cultural item to the lineal descendants, Indian tribes, or Native Hawaiian organizations stated in this notice may proceed.

DATES: Lineal descendants or representatives of any Indian tribe or Native Hawaiian organization not identified in this notice that wish to claim this cultural item should submit a written request with information in support of the claim to the USDA Forest Service, Southwestern Region at the address in this notice by January 21, 2015.

ADDRESSES: Dr. Frank E. Wozniak, NAGPRA Coordinator, Southwestern Region, USDA Forest Service, 333 Broadway Blvd. SE., Albuquerque, NM 87102, telephone (505) 842-3238, email fwozniak@fs.fed.us.

SUPPLEMENTARY INFORMATION: Notice is here given in accordance with the Native American Graves Protection and Repatriation Act (NAGPRA), 25 U.S.C. 3005, of the intent to repatriate a cultural item under the control of the USDA Forest Service, Cibola National Forest that meets the definition of object of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

At some time prior to January 1968, one cultural item was removed from its location in Sandoval County, NM. The item was collected by private individual(s) without the permission or knowledge of the USDA Forest Service and donated anonymously to the Maxwell Museum of Anthropology, University of New Mexico, Albuquerque, at some time prior to January 1968. The object was identified as a NAGPRA item in the winter of 2013/2014 and the USDA Forest Service took possession of the object in the late spring of 2014. This object of cultural patrimony is comprised of prayer sticks held together by woven basketry.

Consultations with representatives of the Hopi Tribe, Arizona; the Pueblo of Acoma, New Mexico; the Pueblo of Cochiti, New Mexico; the Pueblo of Isleta, New Mexico; the Pueblo of Jemez, New Mexico; the Pueblo of Laguna, New Mexico; the Pueblo of San Felipe, New Mexico; the Pueblo of Sandia, New Mexico; the Pueblo of Santa Ana, New Mexico; and the Zuni Tribe of the Zuni Reservation, New Mexico, indicated that this object of cultural patrimony is most closely affiliated with the Pueblo of San Felipe, New Mexico, and the Pueblo of Santa Ana, New Mexico.

Determinations Made by the USDA Forest Service

Officials of the USDA Forest Service have determined that:

• Pursuant to 25 U.S.C. 3001(3)(D), the one cultural item described above has ongoing historical, traditional, or cultural importance central to the Native American group or culture itself, rather than property owned by an individual.

• Pursuant to 25 U.S.C. 3001(2), there is a relationship of shared group identity that can be reasonably traced between the object of cultural patrimony and the Pueblo of San Felipe, New Mexico, and the Pueblo of Santa Ana, New Mexico.

Additional Requestors and Disposition

Lineal descendants or representatives of any Indian tribe or Native Hawaiian organization not identified in this notice that wish to claim these cultural items should submit a written request with information in support of the claim to Dr. Frank E. Wozniak, NAGPRA Coordinator, Southwestern Region, USDA Forest Service, 333 Broadway Blvd. SE., Albuquerque, NM 87102, telephone (505) 842-3238, email fwozniak@fs.fed.us, by January 21, 2015. After that date, if no additional claimants have come forward, transfer of control of the object of cultural patrimony to the Pueblo of San Felipe and the Pueblo of Santa Ana may proceed.

The USDA Forest Service, Cibola National Forest is responsible for notifying the Hopi Tribe, Arizona; the Pueblo of Acoma, New Mexico; the Pueblo of Cochiti, New Mexico; the Pueblo of Isleta, New Mexico; the Pueblo of Jemez, New Mexico; the Pueblo of Laguna, New Mexico; the Pueblo of San Felipe, New Mexico; the Pueblo of Sandia, New Mexico; the Pueblo of Santa Ana, New Mexico; and the Zuni Tribe of the Zuni Reservation, New Mexico, that this notice has been published.

Dated: November 5, 2014.
Melanie O'Brien,
Acting Manager, National NAGPRA Program.

[FR Doc. 2014-29903 Filed 12-19-14; 8:45 am]

BILLING CODE 4312-50-P